DEPARTMENT OF EDUCATION

Early Reading First Program; Notice Reopening the Deadline Date for Transmittal of Pre-Applications for Fiscal Year (FY) 2007

Catalog of Federal Domestic Assistance (CFDA) Number: 84.359A/B.

SUMMARY: On January 22, 2007, we published in the Federal Register (72 FR 2667) a notice inviting applications for the Early Reading First (ERF) FY 2007 competition. The deadline date for eligible applicants to transmit their pre-applications for funding under this competition was February 21, 2007. We are reopening the pre-application phase of the ERF FY 2007 competition for all eligible local educational agencies (LEAs) and for eligible entities located in communities served by those LEAs. Applicants must refer to the notice inviting applications that was published in the Federal Register (72 FR 2667) for all other requirements concerning this reopened competition.

We are extending the pre-application phase of the ERF FY 2007 competition for all eligible applicants, including non-LEAs, because the originally posted State lists of eligible LEAs did not include all LEAs that were eligible as of January 22, 2007, and included some LEAs that were ineligible as of that date. The new deadline date for applicants to submit pre-applications is:

Deadline for Transmittal of Pre-Applications: March 23, 2007.

Pre-applications for grants under this competition must be submitted electronically using the Grants.gov Apply site (Grants.gov). For information about how to submit your pre-application electronically, or by mail or hand delivery if you qualify for an exception to the electronic submission requirement, please refer to the original application notice published in the Federal Register on January 22, 2007 (72 FR 2667).

We do not consider a pre-application that does not comply with the deadline requirements.

Individuals with disabilities who need an accommodation or auxiliary aid in connection with the application process should contact the person listed under FOR FURTHER INFORMATION CONTACT.

Note: Applicants that successfully submitted their complete pre-applications on or before the original deadline date of February 21, 2007, including those that were not timely because they submitted their pre-applications between 4:30 p.m. and midnight on that date, are not required to resubmit their applications. Any applicant that did not successfully submit its application must download, complete, and submit an entirely new application package through Grants.gov as specified in the original ERF application notice.

Deadline for Intergovernmental Review: The deadline date for Intergovernmental Review under Executive Order 12372 remains as originally published, July 30, 2007.

SUPPLEMENTARY INFORMATION: Eligible LEAs. Eligibility determinations are made as of January 22, 2007. Corrected lists of eligible LEAs by State are posted for the convenience of applicants on the ERF Web site at http://www.ed.gov/programs/earlyreading/eligibility.html.

We have contacted each State's Reading First office and the Bureau of Indian Education (BIE) and obtained lists of the LEAs that each State and the BIE considers to be eligible for a Reading First subgrant as of January 22, 2007, the date of publication of the original ERF notice inviting applications for this FY 2007 competition.

Please note, however, that we consider it to be each applicant's own responsibility to verify with the Reading First office in its State or with the BIE the eligibility of a particular LEA for a Reading First subgrant as of January 22, 2007. A list of State and BIE contacts for this purpose is posted also at the ERF Web site at http://www.ed.gov/programs/earlyreading/eligibility.html.

Ineligible LEAs. The originally posted eligible LEA lists included some LEAs that are not eligible. Any LEA that was not eligible for a Reading First subgrant in its State or through the BIE as of January 22, 2007, is not eligible to receive an ERF subgrant in this FY 2007 competition. Nor are any entities located in communities served by those ineligible LEAs eligible to receive an ERF subgrant in this competition on the basis of that location.

Application Submission Information. Information concerning submission of pre-applications for grants under the ERF program (CFDA Number 84.359A) is described in section IV (Application and Submission Information) of the original application notice published in the Federal Register on January 22, 2007 (72 FR 2667). That notice is available at the following Web site: http://www.ed.gov/news/ fedregister/announce/index.html.

Note: If you try to submit a pre-application package that was downloaded from Grants.gov before the original pre-application deadline of February 21, 2007, your submission will be rejected by the Grants.gov system.

Note: If you wish to exercise the Exception to Electronic Submission Requirements, you must submit no later than March 9, 2007 a statement to the Department requesting an exception to these requirements and explaining the grounds that prevent you from using the Internet to submit your pre-application.

FOR FURTHER INFORMATION CONTACT: Pilla Parker, U.S. Department of Education, 400 Maryland Avenue, SW., room 3C136, Washington, DC 20202-6132. Telephone: (202) 260-3710 or by e-mail: Pilla.Parker@ed.gov; or Rebecca Marek, U.S. Department of Education, 400 Maryland Avenue, SW., room 3C138, Washington, DC 20202-6132. Telephone: (202) 260-0968 or by e-mail: Rebecca.Marek@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 2, 2007.
Raymond Simon,
Deputy Secretary for Education, Delegated the Authority to Perform the Functions of the Assistant Secretary for Elementary and Secondary Education.

[FR Doc. E7-4050 Filed 3-6-07; 8:45 am]

BILLING CODE 4000-01-P